DEPARTMENT OF COMMERCE

International Trade Administration

Office of Manufacturing and Services, Interagency Working Group on Manufacturing; Notice of Request for Written Comments

The “Manufacturing in America Report” (http://www.manufacturing.gov) was released in January 2004, and included 57 recommendations aimed at unleashing the full potential of American manufacturers. Of the 57 recommendations, one of the most significant to the success of U.S. manufacturing is the “Creation of an Interagency Working Group on Manufacturing.” On June 22, 2005, the U.S. Department of Commerce and the Office of Manufacturing and Services will host the first meeting to convene the Interagency Working Group on Manufacturing. The purpose of the meeting is to bring representatives from the Federal Agencies together to discuss the state of manufacturing in the United States. The Interagency Working Group will be responsible for coordination and implementation of the recommendations, as well as developing new initiatives that will carry the Manufacturing Initiative forward. Interagency coordination within the Federal Government is vital to creating a favorable environment and a level playing field for U.S. manufacturers.

Written Comments: Industry input is essential to this process; therefore, we would like to solicit written comments from all interested stakeholders including: representatives of manufacturers, retailers, trade and industry associations, Advisory Committee's, NGO's, (non-governmental organizations) and all organizations.

Written comments or input may be submitted to Sarah.Aker@mail.doc.gov no later than 12 p.m. on Monday, June 20, 2005. Please include your name, phone number, and organization affiliation.

For Further Information Contact: Sarah E. Aker, Office of the Assistant Secretary for Manufacturing and Services, Department of Commerce, Room 3832, 1401 Constitution Ave., Washington, DC 20230 (phone: 202-482-1112).

Dated: June 10, 2005.
Sarah E. Aker,
Deputy Chief of Staff.

[FR Doc. 05-11841 Filed 6-14-05; 8:45 am]

BILLING CODE 3510-DR-P